DEPARTMENT OF HEALTH AND HUMAN SERVICES

Substance Abuse and Mental Health Services Administration

Fiscal Year (FY) 2002 Funding Opportunities

AGENCY: Substance Abuse and Mental Health Services Administration, HHS.

ACTION: Notice of funding availability.

SUMMARY: The Substance Abuse and Mental Health Services Administration (SAMHSA) Center for Substance Abuse Treatment (CSAT) announces the availability of FY 2002 funds for grants for the following activity. This notice is not a complete description of the activity; potential applicants must obtain a copy of the Guidance for Applicants (GFA), including Part I, Recovery Community Organization Development and Community Mobilization Program, and Part II, General Policies and Procedures Applicable to all SAMHSA Applications for Discretionary Grants and Cooperative Agreements, before preparing and submitting an application.

Activity | Application deadline | Est. funds FY 2002 | Est. number of awards | Project Period (in year)
Recovery Community Organization Mobilization Program
Track 1 | January 10, 2002 | $900,000 | 4-5 | 5
Track II | January 10, 2002 | 1,100,000 | 4 | 3

The actual amount available for the award may vary, depending on unanticipated program requirements and the number and quality of applications received. FY 2002 funds for the activity discussed in this announcement were appropriated by the Congress under Public Law No. 106-310. SAMHSA's policies and procedures for peer review and Advisory Council review of grant and cooperative agreement applications were published in the Federal Register (Vol. 58, No. 126) on July 2, 1993.

General Instructions

Applicants must use application form PHS 5161-1 (Rev. 7/00). The application kit contains the two-part application materials (complete programmatic guidance and instructions for preparing and submitting applications), the PHS 5161-1 which includes Standard Form 424 (Face Page), and other documentation and forms. Application kits may be obtained from: National Clearinghouse for Alcohol and Drug Information (NCADI), PO Box 2345, Rockville, MD 20847-2345, Telephone: 1-800-729-6686.

The PHS 5161-1 application form and the full text of the activity are also available electronically via SAMHSA's World Wide Web Home Page: http://www.samhsa.gov.

When requesting an application kit, the applicant must specify the particular activity for which detailed information is desired. All information necessary to apply, including where to submit applications and application deadline instructions, are included in the application kit.

Purpose: The Substance Abuse and Mental Health Services Administration (SAMHSA), Center for Substance Abuse Treatment (CSAT) announces the availability of Fiscal Year 2002 funds for grants to foster the participation of people in recovery, their family members, and other allies (the recovery community) in the public dialogue about addiction, treatment, and recovery, and to build their capacity to identify, develop, and support treatment and recovery policies, systems, and services that meet their needs as they define them. Funded projects must document promising approaches in recovery community organizing that can be shared with others attempting similar efforts throughout the Nation. Based on past experience, CSAT believes that successful projects usually include a combination of the following organizing activities: encouraging and facilitating participation by people in recovery and their family members in the planning, design, delivery, and evaluation of addiction treatment and recovery policies, systems, and services at the local, State, regional, and national levels; promoting linkages among recovery community members, and between the recovery community and service delivery systems; and developing and conducting public education to help reduce the stigma associated with addiction, treatment, and recovery.

Applications for two separate Tracks will be funded under the RCSP. Track I solicits applications for new recovery community organizing initiatives, and Track II is designed to enable existing organizations that have demonstrated their capacity in recovery community organizing to expand or intensify their current program, or to replicate their promising program model in another setting.

Eligibility: Applicants may be domestic private nonprofit organizations, such as community-based organizations, universities, faith-based organizations, or units of State or local governments or Indian Tribes and tribal organizations. Consortia comprised of various types of eligible organizations are permitted.

For both Tracks, applications may be from: (a) Recovery community organizations (RCOs), which are organizations comprised of and led by recovery community members; or (b) facilitating organizations, which though themselves not necessarily comprised of recovery community members, will either enable the formation of an independent RCO or will develop some other organizational structure within which to carry out recovery community organizing. Organizations that were funded, either directly or indirectly, under CSAT's 1998 RCSP GFA are not eligible to apply for awards in Track I. Organizations that were funded, either directly or indirectly, under the 2001 RCSP GFA are not eligible to apply for awards in either Track.

Availability of Funds: Approximately $900,000 will be available to fund approximately 4-5 grants in Track I. The award for a Track I grant is expected to range from $175,000 to $200,000 per year in total costs (direct and indirect). Approximately $1,100,000 will be available to fund approximately 4 grants in Track II. The award for a Track II grant is expected to range from $225,000 to $275,000 per year in total costs (direct and indirect).

Period of Support: Track I grants will be awarded for a period of up to 5 years. Track II grants will be awarded for a period of up to 3 years.

Criteria for Review and Funding: Competing applications requesting funding under this activity will be reviewed for technical merit in accordance with established PHS/SAMHSA peer review procedures. Review criteria that will be used by the peer review groups are specified in the application guidance material.

Award Criteria for Scored Applications: Applications will be considered for funding on the basis of their overall technical merit as determined through the peer review group and the appropriate National Advisory Council review process. Availability of funds will also be an award criteria. Additional award criteria specific to the programmatic activity may be included in the application guidance materials.

Catalog of Federal Domestic Assistance Number: 93.230.

Program Contact: For questions concerning program issues, contact: Catherine D. Nugent, Division of State and Community Assistance, CSAT/SAMHSA, Rockwall II, Suite 880, 5600 Fishers Lane, Rockville, MD 20857, (301) 443-2662, E-Mail: cnugent@samhsa.gov.

For questions regarding grants management issues, contact: Steve Hudak, Division of Grants Management, OPS/SAMHSA, Rockwall II, 6th floor, 5600 Fishers Lane, Rockville, MD 20857, (301) 443-9666, E-Mail: shudak@samhsa.gov.

Public Health System Reporting Requirements: The Public Health System Impact Statement (PHSIS) is intended to keep State and local health officials apprised of proposed health services grant and cooperative agreement applications submitted by community-based nongovernmental organizations within their jurisdictions.

Community-based nongovernmental service providers who are not transmitting their applications through the State must submit a PHSIS to the head(s) of the appropriate State and local health agencies in the area(s) to be affected not later than the pertinent receipt date for applications. This PHSIS consists of the following information:

a. A copy of the face page of the application (Standard form 424).

b. A summary of the project (PHSIS), not to exceed one page, which provides:

(1) A description of the population to be served.

(2) A summary of the services to be provided.

(3) A description of the coordination planned with the appropriate State or local health agencies.

State and local governments and Indian Tribal Authority applicants are not subject to the Public Health System Reporting Requirements. Application guidance materials will specify if a particular FY 2001 activity is subject to the Public Health System Reporting Requirements.

PHS Non-use of Tobacco Policy Statement: The PHS strongly encourages all grant and contract recipients to provide a smoke-free workplace and promote the non-use of all tobacco products. In addition, Public Law 103-227, the Pro-Children Act of 1994, prohibits smoking in certain facilities (or in some cases, any portion of a facility) in which regular or routine education, library, day care, health care, or early childhood development services are provided to children. This is consistent with the PHS mission to protect and advance the physical and mental health of the American people.

Executive Order 12372: Applications submitted in response to the FY 2001 activity listed above are subject to the intergovernmental review requirements of Executive Order 12372, as implemented through DHHS regulations at 45 CFR Part 100. E.O. 12372 sets up a system for State and local government review of applications for Federal financial assistance. Applicants (other than Federally recognized Indian tribal governments) should contact the State's Single Point of Contact (SPOC) as early as possible to alert them to the prospective application(s) and to receive any necessary instructions on the State's review process. For proposed projects serving more than one State, the applicant is advised to contact the SPOC of each affected State. A current listing of SPOCs is included in the application guidance materials. The SPOC should send any State review process recommendations directly to: Division of Extramural Activities, Policy, and Review, Substance Abuse and Mental Health Services Administration, Parklawn Building, Room 17-89, 5600 Fishers Lane, Rockville, Maryland 20857.

The due date for State review process recommendations is no later than 60 days after the specified deadline date for the receipt of applications. SAMHSA does not guarantee to accommodate or explain SPOC comments that are received after the 60-day cut-off.

Dated: November 13, 2001.
Richard Kopanda,
Executive Officer, SAMHSA.

[FR Doc. 01-28834 Filed 11-16-01; 8:45 am]

BILLING CODE 4162-20-P